DEPARTMENT OF TRANSPORTATION

Federal Highway Administration

[Docket No. FHWA-2004-17160]

Agency Information Collection Activities; Request for Comments; Clearance of a New Information Collection; Uniform Act Focused Certification Program for Right-of-Way Professionals

AGENCY: Federal Highway Administration (FHWA), DOT.

ACTION: Notice and request for comments.

SUMMARY: The FHWA invites public comments about our intention to request the Office of Management and Budget's (OMB) approval to conduct a new information collection for a market survey to assist in the assessment of the need for developing a Uniform Act Focused Certification for Right-of-Way Professionals. Additional background and information about the potential need for the certification and the proposed survey process are provided below under Supplementary Information. We are required to publish this notice in the Federal Register by the Paperwork Reduction Act of 1995.

DATES: Please submit comments by July 2, 2004.

ADDRESSES: You may submit comments identified by DOT DMS Docket Number FHWA-2004-17160 by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 a.m. and 5 p.m., Monday through Friday, except Federal holidays.

Instructions: All submissions must include the agency name and docket number. Note that all comments received will be posted without change to http://dms.dot.gov, including any personal information provided. Please see the Privacy Act heading under Regulatory Notices.

Docket: For access to the docket to read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Ms. Kathleen Kendrick, (202) 366-2035, Office of Real Estate Services, Federal Highway Administration, Department of Transportation, 400 7th Street, SW., Washington, DC 20590-0001. Office hours are from 7:15 a.m. to 3:45 p.m., Monday through Friday, except Federal holidays.

SUPPLEMENTARY INFORMATION: Title: Uniform Act Certification Needs Analysis.

Background: The demand for Uniform Relocation Assistance and Real Property Acquisition Policies Act (Uniform Act) compliant real estate services is growing rapidly. However, both public sector agencies and private sector firms are experiencing difficulty in recruiting new workers into the needed disciplines due to a lack of trained individuals. In response to these challenges, as the Lead Agency for the Uniform Act, FHWA is proposing to conduct research to examine and report upon training and certification options for right-of-way and other real estate service providers. In addition, FHWA would assess the market need for the establishment of a new certification program, which would have as a focus the development of a qualified workforce to assist agencies and private sector organizations operating under the Uniform Act.

To assess the need for a new certification program focused on the Uniform Act, the Office of Real Estate Services proposes to survey three groups as follows:

1. Licensing agencies in the 50 states, the District of Columbia, Puerto Rico, Virgin Islands and Pacific territories will be surveyed to confirm the licenses required and the associated educational and work requirements for each license. Secondary research through agency Internet web sites will be utilized to the extent possible. Primary research by telephone or e-mail to a specific agency will only be performed as required to obtain information not available on the web site, or to obtain a required clarification.

◦ Respondents: 27 agencies.

◦ Frequency: This is a one-time survey.

◦ Estimated Burden: It is estimated that the response time will be 15 minutes per agency, for a total response time of 6.75 hours.

2. Selected two and four year colleges in the 50 states, the District of Columbia, Puerto Rico, Virgin Islands and the Pacific Territories and major national organizations, associations and institutions will be surveyed to inventory and document existing Uniform Act focused real estate course offerings. Secondary research through the Internet will be used to identify institutions offering courses and to gather as much information about the courses through the institution's web site. Primary research by telephone or e-mail to institutions will be utilized only as required to obtain information not available on the institution's web site, or to obtain a required clarification.

◦ Respondents: 75 institutions, associations, and organizations.

◦ Frequency: This is a one-time survey.

◦ Estimated Burden: It is estimated that the response time will be 15 minutes per institution, for a total response time of 18.75 hours.

3. Right-of-way managers in the 50 state departments of transportation, selected city and county transportation agencies and selected private sector real estate services, engineering and consulting firms will be surveyed to assess market perception of the need for a Uniform Act focused right of way certification program. A brief survey form, with approximately 20 questions, will be utilized as an initial information gathering tool. A link to this survey form will be sent via e-mail to the respondent and the survey form will be completed on-line, with telephone follow-up only as required to obtain a clarification on information provided. In addition, as a follow-up and validation of the initial survey, a 90-minute focus group session will be held. Twenty individuals, selected from those who responded to the original survey, will meet in a focus group during, or in conjunction with a national or major regional meeting of right of way professionals, such as the American Association of State Transportation Officials (AASHTO) national right of way committee meeting.

◦ Respondents: 100 survey respondents (54 state or territory transportation agencies, and 46 selected other city and county and private sector respondents).

◦ Frequency: This will be a one-time survey and follow-up focus group meeting.

◦ Estimated Total Annual Burden: The average response time for the survey is estimated to be 30 minutes, for a total of 50 hours. In addition, it is estimated that survey follow-up by e-mail or telephone will be required of 25% of the respondents for a total of 25 respondents at an average of 10 minutes, for a total response time of 4.17 hours. Twenty individuals will attend the focus group for 90 minutes each for a total of 30 hours. The total response time for the survey, follow-up and focus group meeting will be approximately 84.2 hours. The total annual burden for the entire survey (all three groups) is estimated to be approximately 110 hours.

Regulatory Notices

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78), or you may visit http://dms.dot.gov.

Authority: The Paperwork Reduction Act of 1995; 44 U.S.C. Chapter 35, as amended; and 49 CFR 1.48.

Issued on: April 20, 2004.
James R. Kabel,
Chief, Management Programs and Analysis Division.

[FR Doc. 04-9928 Filed 4-30-04; 8:45 am]

BILLING CODE 4910-22-P